DEPARTMENT OF HOUSING AND URBAN DEVELOPMENT

[Docket No. FR-5867-FA-01]

Announcement of Funding Awards for Fiscal Year (FY) 2014 for the Housing Choice Voucher (HCV) Program

AGENCY: Office of the Assistant Secretary for Public and Indian Housing, HUD.

ACTION: Announcement of funding awards.

SUMMARY: In accordance with Section 102(a)(4)(C) of the Department of Housing and Urban Development Reform Act of 1989, this announcement notifies the public of funding awards made by the Department to public housing agencies (PHA) in FY 2014 under the Section 8 Housing Choice Voucher (HCV) program. This announcement lists the names, addresses, and amount of the awards to PHAs for non-competitive funding awards for housing conversion actions, public housing relocations and replacements, moderate rehabilitation replacements, and HOPE VI voucher awards.

FOR FURTHER INFORMATION CONTACT: Milan Ozdinec, Deputy Assistant Secretary, Office of Housing Voucher Programs, Office of Public and Indian Housing, Department of Housing and Urban Development, 451 Seventh Street SW., Room 4204, Washington, DC 20410-5000, telephone number 202-402-1380. Persons with hearing or speech impairments may access this number through TTY by calling the toll-free Federal Relay Service at 800-927-7589.

SUPPLEMENTARY INFORMATION: The regulations governing the HCV program are located at 24 CFR 982. The regulations for allocating housing assistance budget authority under Section 213(d) of the Housing and Community Development Act of 1974 are located at 24 CFR part 791, subpart D.

The purpose of the rental assistance program is to assist eligible families pay their rent for decent, safe, and sanitary housing. The FY 2014 awardees announced in this announcement were provided HCV program tenant protection vouchers (TPVs) funds on an as-needed, non-competitive basis, i.e., not consistent with the provisions of a Notice of Funding Availability. TPV awards made to PHAs for program actions that displace families living in public housing were made on a first-come, first-served basis in accordance with PIH Notice 2007-10, Voucher Funding in Connection with the Demolition or Disposition of Occupied Public Housing Units,¹ and PIH Notice 2014-05, Implementation of the Federal Fiscal Year 2014 Funding Provision for the Housing Choice Voucher Program.² Awards for the Rental Assistance Demonstration (RAD) were provided for Rental Supplement and Rental Assistance Payment Projects (RAD component #2) consistent with PIH Notice 2012-32.³ Announcements of funding awards provided under the NOFA process for Mainstream, Designated Housing, Family Unification (FUP), and Veterans Assistance Supportive Housing (VASH) programs will be published in a separate Federal Register notice.

¹ http://portal.hud.gov/hudportal/documents/huddoc?id=DOC_11380.pdf.

² http://portal.hud.gov/hudportal/documents/huddoc?id=PIHHCVFundImplNotice031814.pdf.

³ http://portal.hud.gov/hudportal/documents/huddoc?id=pih2012-32rev1.pdf.

Awards published under this notice were provided (1) to assist families living in HUD-owned properties that are being sold; (2) to assist families affected by the expiration or termination of their Project-based Section 8 and Moderate Rehabilitation contracts; (3) to assist families in properties where the owner has prepaid the HUD mortgage; (4) to assist families in projects where the Rental Supplement and Rental Assistance Payments contracts are expiring (Rental Assistance Demonstration (RAD—Second Component); (5) to provide relocation housing assistance in connection with the demolition of public housing; (6) to provide replacement housing assistance for single room occupancy (SRO) units that fail housing quality standards (HQS); (7) to assist families in public housing developments that are scheduled for demolition in connection with a HUD-approved HOPE VI revitalization or demolition grant, and (8) to assist families consistent with PIH Notice 2013-08 ⁴ and 2014-04, Funding for Tenant Protection Voucher for Certain At-Risk Households in Low Vacancy Areas.⁵

⁴ http://portal.hud.gov/hudportal/documents/huddoc?id=pih2013-08.pdf.

⁵ http://portal.hud.gov/hudportal/documents/huddoc?id=14-04pihn.pdf.

A special administrative fee of $200 per occupied unit was provided to PHAs to compensate for any extraordinary HCV program administrative costs associated with the Multifamily Housing conversion action(s).

The Department awarded total new budget authority of $115,915,271 for 14,503 housing choice vouchers to recipients under all of the above-mentioned categories. This budget authority includes $620,266 of unobligated commitments made in FY 2013. These funds were reserved by September 30, 2013, but not contracted until FY 2014, and thus have been included with obligated commitments for FY 2014.

In accordance with Section 102(a)(4)(C) of the Department of Housing and Urban Development Reform Act of 1989 (103 Stat. 1987, 42 U.S.C. 3545), the Department is publishing the names, addresses, and amounts of those awards as shown in Appendix A alphabetically by State then by PHA name.

Dated: April 21, 2015.
Lourdes Castro Ramirez,
Principal Deputy Assistant Secretary for Public Indian Housing.

Appendix A—Section 8 Rental Assistance Programs Announcement of Awards for Fiscal Year 2014
Housing agency | Address | Units | Award
Special Fees
Special Fees for At-Risk Households
CA: CITY OF BERKELEY HA | 1901 FAIRVIEW ST, BERKELEY, CA 94703 | 0 | $6,800
CA: COUNTY OF SANTA CLARA HA | 505 WEST JULIAN ST, SAN JOSE, CA 95110 | 0 | 1,400
CA: SAN DIEGO HSG COMM | 1122 BROADWAY, STE 300, SAN DIEGO, CA 92101 | 0 | 1,000
CA: HA OF THE CITY OF LIVERMORE | 3203 LEAHY WAY, LIVERMORE, CA 94550 | 0 | 800
CA: CITY OF BALDWIN PARK HA | 14403 PACIFIC AVE, BALDWIN PARK, CA 91706 | 0 | 3,200
CT: CONNECTICUT DEPT OF HOUSING | 505 HUDSON ST, HARTFORD, CT 06106 | 0 | 25,200
FL: MIAMI DADE HA | 701 NW 1ST COURT, 16TH FL, MIAMI, FL 33136 | 0 | 34,200
IL: CHICAGO HA | 60 EAST VAN BUREN ST, 11TH FL, CHICAGO, IL 60605 | 0 | 12,400
NH: NASHUA HA | 40 EAST PEARL ST, 1ST FL, NASHUA, NH 03060 | 0 | 400
NH: CONCORD HA | 10 FERRY ST, STE 302, CONCORD, NH 03301 | 0 | 4,200
NY: NYS HSG TRUST FUND CORP | 38-40 STATE ST, ALBANY, NY 12207 | 0 | 36,800
Total for Special Fees—At-Risk Households |  | 0 | 126,400
Special Fees for Opt-Outs/Terminations
AK: AK HSG FINANCE CORP | PO BOX 101020, ANCHORAGE, AK 99510 | 0 | 14,800
AR: SPRINGDALE HA | PO BOX 2085, SPRINGDALE, AR 72765 | 0 | 2,400
AR: HA OF THE CITY OF SILOAM | P2802 HWY 412 EAST, SILOAM SPRINGS, AR 72761 | 0 | 2,000
CA: CITY OF LOS ANGELES HA | 2600 WILSHIRE BLVD, 3RD FL, LOS ANGELES, CA 90057 | 0 | 200
CA: SAN DIEGO HSG COMM | 1122 BROADWAY, STE 300, SAN DIEGO, CA 92101 | 0 | 6,400
CA: COUNTY OF SAN DIEGO HCD | 3989 RUFFIN RD, SAN DIEGO, CA 92123 | 0 | 4,800
CA: CITY OF POMONA HA | 505 S. GAREY AVE, POMONA, CA 91769 | 0 | 600
CA: CITY OF OCEANSIDE COMM DEV | 300 N. COAST HWY NEVADA ST ANNEX, OCEANSIDE, CA 92054 | 0 | 2,400
CO: LOVELAND HA | 375 W. 37TH ST, #200, LOVELAND, CO 80538 | 0 | 2,400
CO: FORT COLLINS HA | 1715 W. MOUNTAIN AVE, FORT COLLINS, CO 80521 | 0 | 10,000
CT: BRIDGEPORT HA | 150 HIGHLAND AVE, BRIDGEPORT, CT 06604 | 0 | 1,800
CT: CONNECTICUT DEPT OF HOUSING | 505 HUDSON ST, HARTFORD, CT 06106 | 0 | 3,800
GA: HA OF CITY OF JONESBORO | 203 HIGHTOWER ST, JONESBORO, GA 30237 | 0 | 7,400
IA: FORT DODGE HOUSING AGENCY | 700 SOUTH 17TH ST, FORT DODGE, IA 50501 | 0 | 2,200
IA: MASON CITY HA | 22 N. GEORGIA, STE 214, MASON CITY, IA 50401 | 0 | 2,200
IA: SOUTHERN IOWA REG HA | 219 N PINE, CRESTON, IA 50801 | 0 | 3,200
IA: MARSHALLTOWN LRHA | 24 NORTH CENTER ST, MARSHALLTOWN, IA 50158 | 0 | 3,000
IA: MID IOWA REGIONAL HOUSING | 1605 1ST AVE NORTH, STE 1, FORT DODGE, IA 50501 | 0 | 5,400
IL: HA OF HENRY | 125 N. CHESTNUT ST, KEWANEE, IL 61443 | 0 | 1,800
IN: INDIANAPOLIS HA | 1919 N. MERIDIAN ST, INDIANAPOLIS, IN 46202 | 0 | 8,600
KS: FORD COUNTY HA | PO BOX 1636, DODGE CITY, KS 67801 | 0 | 800
MA: WORCESTER HA | 40 BELMONT ST, WORCESTER, MA 01605 | 0 | 5,200
MA: PLYMOUTH HA | POB 3537, PLYMOUTH, MA 02361 | 0 | 2,200
MA: MASSACHUSETTS DHCD | 100 CAMBRIDGE ST, BOSTON, MA 02114 | 0 | 11,200
MD: COUNTY COMMISSIONERS CHARLES | 8190 PORT TOBACCO RD, PORT TOBACCO, MD 20677 | 0 | 3,600
MD: BALTIMORE CO. HOUSING OFFICE | 6401 YORK RD, 1 ST FL, BALTIMORE, MD 21212 | 0 | 7,200
ME: MAINE STATE HA | 353 WATER ST, AUGUSTA, ME 04330 | 0 | 1,200
MI: MICHIGAN STATE HSG DEV AUTH | PO BOX 30044, LANSING, MI 48909 | 0 | 76,000
MN: ST. CLOUD HRA | 1225 WEST ST. GERMAIN, ST. CLOUD, MN 56301 | 0 | 1,400
MN: NW MN MULTI-COUNTY HRA | PO BOX 128, MENTOR, MN 56736 | 0 | 1,800
MO: ST. LOUIS HA | 3520 PAGE BLVD, ST. LOUIS, MO 63106 | 0 | 9,200
MS: HA OF TENNESSEE VALLEY | PO BOX 132, CORINTH, MS 38834 | 0 | 4,600
MT: BUTTE HA | 220 CURTIS ST, BUTTE, MT 59701 | 0 | 6,600
MT: MT DEPT OF COMMERCE | 301 S. PARK, HELENA, MT 59620 | 0 | 3,600
NC: GREENSBORO HA | PO BOX 21287, GREENSBORO, NC 27420 | 0 | 4,000
ND: STUTSMAN COUNTY HA | 217 1ST AVE NORTH, JAMESTOWN, ND 58401 | 0 | 5,000
ND: BARNES COUNTY HA | 120 12TH STREET NW., VALLEY CITY, ND 58072 | 0 | 9,800
NE: FREMONT HA | 2510 NORTH CLARKSON, STE #100, FREMONT, NE 68025 | 0 | 1,400
NY: TOWN OF ISLIP HA | 963 MONTAUK HWY, OAKDALE, NY 11769 | 0 | 1,600
NY: TOWN OF BROOKHAVEN DOH | ONE INDEPENDENCE HILL, FARMINGVILLE, NY 11738 | 0 | 17,200
NY: NYS HSG TRUST FUND CORP | 38-40 STATE ST, ALBANY, NY 12207 | 0 | 1,600
OH: COLUMBUS METRO HA | 880 EAST 11TH AVE, COLUMBUS, OH 43211 | 0 | 4,600
OH: CINCINNATI METRO HA | 16 WEST CENTRAL PKWK, CINCINNATI, OH 45210 | 0 | 2,000
OR: HSG & COMM SERV AGENCY OF LANE | 177 DAY ISLAND RD, EUGENE, OR 97401 | 0 | 5,400
RQ: MUNICIPALITY OF SAN JUAN | PO BOX 36-2138, SAN JUAN, PR 00936 | 0 | 1,600
RQ: MUNICIPALITY OF BAYAMON | PO 1588, BAYAMON, PR 00960 | 0 | 9,200
SC: HA OF GREENWOOD | PO BOX 973, GREENWOOD, SC 29648 | 0 | 1,600
SD: PIERRE HSG & REDEV COMM | 301 W. PLEASANT AVE, PIERRE, SD 57501 | 0 | 2,400
SD: YANKTON HSG & REDEV COMM | PO BOX 176, YANKTON, SD 57078 | 0 | 800
TX: TARRANT COUNTY HOUSING | 2100 CIRCLE DR, STE 200, FORT WORTH, TX 76119 | 0 | 6,000
TX: HA OF ODESSA | 124 E. SECOND ST, ODESSA, TX 79761 | 0 | 10,200
TX: TYLER HA | 213 N. BONNER, TYLER, TX 75710 | 0 | 7,800
VA: RICHMOND REDEV & HA | 901 CHAMBERLAYNE PKWY, RICHMOND, VA 23220 | 0 | 4,000
VA: DANVILLE REDEV & HA | 651 CARDINAL PLACE, DANVILLE, VA 24541 | 0 | 11,200
VA: LYNCHBURG REDEV & HA | 918 COMMERCE ST, LYNCHBURG, VA 24505 | 0 | 17,200
VA: VIRGINIA HSG DEV AUTH | 601 SOUTH BELVIDERE ST, RICHMOND, VA 23220 | 0 | 20,000
WA: SEATTLE HA | 120 SIXTH AVE NORTH, SEATTLE, WA 98109 | 0 | 3,800
WA: KING COUNTY HA | 600 ANDOVER PARK WEST, SEATTLE, WA 98188 | 0 | 21,000
WA: HA OF SNOHOMISH | 12625 4TH AVE W, STE 200, EVERETT, WA 98204 | 0 | 7,200
WA: SPOKANE HA | WEST 55 MISSION ST, STE 104, SPOKANE, WA 99201 | 0 | 17,000
WI: MILWAUKEE COUNTY HA | 2711 W WELLS ST, RM 102, MILWAUKEE, WI 53208 | 0 | 5,600
WI: WISCONSIN HSG & ECON DEV AUTH | PO BOX 1728, MADISON, WI 53701 | 0 | 12,600
WV: PARKERSBURG HA | 1901 CAMERON AVE, PARKERSBURG, WV 26101 | 0 | 1,000
Total for Special Fees—Opt-Outs/Terminations |  | 0 | 432,800
Special Fees for Property Disposition Relocation
IA: CITY OF DES MOINES MUNICIPAL | 100 EAST EUCLID, STE 101, DES MOINES, IA 50313 | 0 | 1,000
Total for Special Fees—Property Disposition Relocation |  | 0 | 1,000
Special Fees for Prepayment
AL: HA OF SELMA | PO BOX 950, SELMA, AL 36702 | 0 | 3,600
CA: CITY OF FRESNO HA | 1331 FULTON MALL, FRESNO, CA 93776 | 0 | 1,200
CA: COUNTY OF SACRAMENTO HA | 801 12TH ST, SACRAMENTO, CA 95814 | 0 | 13,800
CA: COUNTY OF FRESNO HA | 1331 FULTON MALL, FRESNO, CA 93776 | 0 | 9,600
CA: COUNTY OF MONTEREY HA | 123 RICO ST, SALINAS, CA 93907 | 0 | 19,200
CA: CITY OF FAIRFIELD HA | 823-B JEFFERSON ST, FAIRFIELD, CA 94533 | 0 | 6,200
CO: HA OF CITY & COUNTY OF DENVER | 777 GRANT ST, DENVER, CO 80203 | 0 | 5,600
DC: DISTRICT OF COLUMBIA HA | 1133 NORTH CAPITOL ST, NE., WASHINGTON, DC 20002 | 0 | 2,000
ID: HA OF THE CITY OF POCATELLO | PO BOX 4161, POCATELLO, ID 83205 | 0 | 8,600
ID: IDAHO HFA | 565 W MYRTLE ST, BOISE, ID 83707 | 0 | 4,600
IL: CHICAGO HA | 60 EAST VAN BUREN ST, 11TH FL, CHICAGO, IL 60605 | 0 | 80,000
IL: MCLEAN COUNTY HA | 104 EAST WOOD ST, BLOOMINGTON, IL 61701 | 0 | 19,200
IN: HA OF CITY OF EVANSVILLE | 500 COURT ST, EVANSVILLE, IN 47708 | 0 | 8,000
KY: SOMERSET HA | PO BOX 449, SOMERSET, KY 42501 | 0 | 12,200
KY: HOPKINSVILLE HA | 400 NORTH ELM ST, HOPKINSVILLE, KY 42240 | 0 | 16,000
KY: CUMBERLAND VALLEY HA | PO BOX 806, BARBOURVILLE, KY 40906 | 0 | 1,200
MA: CAMBRIDGE HA | 675 MASSACHUSETTS AVE, CAMBRIDGE, MA 02139 | 0 | 93,800
MA: HOLYOKE HA | 475 MAPLE ST, HOLYOKE, MA 01040 | 0 | 24,200
MA: NORTH ADAMS HA | 150 ASHLAND ST, NORTH ADAMS, MA 01247 | 0 | 11,600
MA: GREENFIELD HA | ONE ELM TERRACE, GREENFIELD TOWN, MA 01301 | 0 | 15,200
MA: COMM DEV PROG COMM OF | 100 CAMBRIDGE ST, BOSTON, MA 02114 | 0 | 23,600
MD: HA OF BALTIMORE | 417 EAST FAYETTE ST, BALTIMORE, MD 21201 | 0 | 34,000
MD: MONTGOMERY COUNTY HOC | 10400 DETRICK AVE, KENSINGTON, MD 20895 | 0 | 28,800
MI: MICHIGAN STATE HSG DEV AUTH | PO BOX 30044, LANSING, MI 48909 | 0 | 82,600
MN: MINNEAPOLIS PHA | 1001 WASHINGTON AVE NORTH, MINNEAPOLIS, MN 55401 | 0 | 3,800
MN: CROOKSTON HSG AND ECONOMIC | 110 SARGENT ST, CROOKSTON, MN 56716 | 0 | 5,400
MN: METROPOLITAN COUNCIL HRA | 390 ROBERT ST NORTH, ST. PAUL, MN 55101 | 0 | 17,000
MO: HA OF KANSAS | 920 MAIN ST, STE 701, KANSAS CITY, MO 64106 | 0 | 17,400
NJ: ATLANTIC CITY HA | 227 VERMONT AVE, ATLANTIC CITY, NJ 08401 | 0 | 20,800
NY: HA OF UTICA CITY | 509 SECOND ST, UTICA, NY 13501 | 0 | 28,200
NY: ALBANY HA | 200 SOUTH PEARL, ALBANY, NY 12202 | 0 | 21,000
NY: HA OF ROCHESTER | 675 WEST MAIN ST, ROCHESTER, NY 14611 | 0 | 37,600
NY: WHITE PLAINS HA | 223 DR MARTIN L KING JR BLVD, WHITE PLAINS, NY 10601 | 0 | 11,600
NY: HA OF ITHACA | 800 S PLAIN ST, ITHACA, NY 14850 | 0 | 13,800
NY: HA OF AUBURN | 20 THORNTON AVE, AUBURN, NY 13021 | 0 | 27,400
NY: NEW YORK DHPD | 100 GOLD ST, RM 501, NEW YORK, NY 10038 | 0 | 198,000
NY: CITY OF NIAGARA FALLS COMM DEV | 1022 MAIN ST, NIAGARA FALLS, NY 14301 | 0 | 20,200
NY: NYS HSG TRUST FUND CORP | 38-40 STATE ST, ALBANY, NY 12207 | 0 | 11,800
OH: CUYAHOGA MHA | 8120 KINSMAN RD, CLEVELAND, OH 44104 | 0 | 27,000
OH: WAYNE MHA | 345 NORTH MARKET ST, WOOSTER, OH 44691 | 0 | 6,200
OR: HA OF HILLSBORO | 111 NE LINCOLN ST, STE 200-L, HILLSBORO, OR 97124 | 0 | 14,400
PA: HA OF THE CITY OF PITTSBURGH | 200 ROSS ST, PITTSBURGH, PA 15219 | 0 | 8,200
PA: ALLEGHENY COUNTY HA | 625 STANWIX ST, 12TH FL, PITTSBURGH, PA 15222 | 0 | 13,400
PA: HARRISBURG HA | 351 CHESTNUT ST, 12TH FL, HARRISBURG, PA 17101 | 0 | 39,000
PA: JOHNSTOWN HA | 501 CHESTNUT ST, JOHNSTOWN, PA 15907 | 0 | 32,000
VA: ROANOKE REDEV & HA | 2624 SALEM TRNPK, NW., ROANOKE, VA 24017 | 0 | 12,000
WV: WHEELING HA | 11 COMMUNITY ST, WHEELING, WV 26003 | 0 | 4,400
WV: PARKERSBURG HA | 1901 CAMERON AVE, PARKERSBURG, WV 26101 | 0 | 17,200
WV: HA OF THE CITY OF BECKLEY | 100 BECKWOODS DR, BECKLEY, WV 25802 | 0 | 27,800
Total for Special Fees—Prepayment |  | 0 | 1,160,400
Special Fees for RAD Conversions
IL: ELGIN HA | 120 SOUTH STATE ST, ELGIN, IL 60123 | 0 | 29,800
IL: DUPAGE COUNTY HA | 711 EAST ROOSEVELT RD, WHEATON, IL 60187 | 0 | 13,200
MA: BOSTON HA | 52 CHAUNCY ST, BOSTON, MA 02111 | 0 | 3,400
MA: HOLYOKE HA | 475 MAPLE ST, HOLYOKE, MA 01040 | 0 | 11,600
MA: TAUNTON HA | 30 OLNEY ST, STE B, TAUNTON, MA 02780 | 0 | 14,400
MA: SPRINGFIELD HA | 25 SAAB COURT, SPRINGFIELD, MA 01101 | 0 | 30,200
MA: HAVERHILL HA | 25-C WASHINGTON ST, HAVERHILL, MA 01831 | 0 | 22,600
MA: MASSACHUSETTS DHCD | 100 CAMBRIDGE ST, BOSTON, MA 02114 | 0 | 35,200
MI: MICHIGAN STATE HSG DEV AUTH | PO BOX 30044, LANSING, MI 48909 | 0 | 145,000
NJ: JERSEY CITY HA | 400 US HWY #1, JERSEY CITY, NJ 07306 | 0 | 61,600
NJ: EAST ORANGE HA | 160 HALSTED ST, EAST ORANGE, NJ 07018 | 0 | 33,200
NJ: VINELAND HA | 191 CHESTNUT AVE, VINELAND, NJ 08360 | 0 | 400
NY: ALBANY HA | 200 SOUTH PEARL, ALBANY, NY 12202 | 0 | 28,600
NY: VILLAGE OF MANLIUS | 990 JAMES ST, SYRACUSE, NY 13203 | 0 | 119,000
NY: NYS HSG TRUST FUND CORP | 38-40 STATE ST, ALBANY, NY 12207 | 0 | 47,200
Total for Special Fees—RAD Conversions |  | 0 | 595,400
Special Fees for Rent Supplement
GA: HA MACON | 2015 FELTON AVE, MACON, GA 31208 | 0 | 33,400
MA: FITCHBURG HA | 50 DAY ST, FITCHBURG, MA 01420 | 0 | 4,000
MI: MICHIGAN STATE HSG DEV AUTH | PO BOX 30044, LANSING, MI 48909 | 0 | 13,000
ND: RICHLAND COUNTY HA | 230 8TH AVE WEST, WEST FARGO, ND 58078 | 0 | 3,200
Total for Special Fees—Rent Supplement |  | 0 | 53,600
Total for Special Fees |  | 0 | 2,369,600
Public Housing Tenant Protection
Family Unification Program
WA: KING COUNTY HA | 600 ANDOVER PARK WEST, SEATTLE, WA 98188 | 69 | 842,581
Total for Family Unification Program |  | 69 | 842,581
Moderate Rehabilitation Replacement
CA: OAKLAND HA | 1619 HARRISON ST, OAKLAND, CA 94612 | 9 | 32,382
DC: DISTRICT OF COLUMBIA HA | 1133 NORTH CAPITOL ST, NE., WASHINGTON, DC 20002 | 6 | 83,994
FL: MIAMI DADE HA | 701 NW 1ST COURT, 16TH FL, MIAMI, FL 33136 | 4 | 37,252
ND: STUTSMAN COUNTY HA | 217 1ST AVE NORTH, JAMESTOWN, ND 58401 | 38 | 127,984
NJ: NEW JERSEY DCA | 101 SOUTH BROAD ST, TRENTON, NJ 08608 | 22 | 217,437
OH: CUYAHOGA MHA | 8120 KINSMAN RD, CLEVELAND, OH 44104 | 16 | 61,248
OK: OKLAHOMA HSG FIN AGENCY | 100 NW 63RD ST, STE 200, OKLAHOMA CITY, OK 73116 | 2 | 9,809
SD: BROOKINGS HA | 1310 MAIN AVE SOUTH, BROOKINGS, SD 57006 | 7 | 33,369
TX: HOUSTON HA | 2640 FOUNTAIN VIEW, HOUSTON, TX 77057 | 3 | 23,197
VA: RICHMOND REDEV & HA | 901 CHAMBERLAYNE PKWY, RICHMOND, VA 23220 | 5 | 41,557
VA: WISE COUNTY REDEV & HA | PO BOX 630, COEBURN, VA 24230 | 2 | 8,585
Total for Moderate Rehabilitation Replacement |  | 114 | 676,814
Moderate Rehabilitation Replacement (RAD)
NY: NEW YORK DHPD | 100 GOLD ST, RM 501, NEW YORK, NY 10038 | 236 | 2,841,276
Total for Moderate Rehabilitation Replacement (RAD) |  | 236 | 2,841,276
Public Housing Relocation
AK: AK HSG FINANCE CORP | PO BOX 101020, ANCHORAGE, AK 99510 | 16 | 124,546
AL: H/A CITY OF MONTGOMERY | 525 SOUTH LAWRENCE ST, MONTGOMERY, AL 36104 | 6 | 38,346
CA: SAN FRANCISCO HA | 1815 EGBERT AVE, SAN FRANCISCO, CA 94124 | 70 | 1,052,572
CA: CITY OF OXNARD HA | 435 SOUTH D ST, OXNARD, CA 93030 | 114 | 1,107,807
CO: BOULDER CITY HA | 4800 BROADWAY, BOULDER, CO 80304 | 53 | 447,745
CO: HA OF CITY & COUNTY OF DENVER | 777 GRANT ST, DENVER, CO 80203 | 50 | 453,360
DC: DISTRICT OF COLUMBIA HA | 1133 NORTH CAPITOL ST, NE., WASHINGTON, DC 20002 | 9 | 126,084
GA: HA AUGUSTA | 1435 WALTON WAY, AUGUSTA, GA 30914 | 279 | 1,869,939
IL: HA OF COUNTY OF LAKE | 33928 N. US HWY 45, GRAYSLAKE, IL 60030 | 115 | 973,521
IL: MORGAN COUNTY HA | 301 WEST BEECHER AVE, JACKSONVILLE, IL 62650 | 10 | 38,497
IN: HAMMOND HA | 1402 173RD ST, HAMMOND, IN 46324 | 82 | 560,683
MA: BOSTON HA | 52 CHAUNCY ST, BOSTON, MA 02111 | 25 | 326,631
MN: ST PAUL PHA | 555 NORTH WABASHA, STE 400, ST. PAUL, MN 55102 | 2 | 15,826
NJ: GLASSBORO HA | 737 LINCOLN BLVD, GLASSBORO, NJ 08028 | 6 | 48,607
RI: NEWPORT HA | 120B HILLSIDE AVE, NEWPORT, RI 02840 | 18 | 196,044
RQ: PUERTO RICO DEPT OF HSG | PO BOX 21365, SAN JUAN, PR 00928 | 102 | 669,896
TX: SAN ANTONIO HA | 818 S. FLORES ST, SAN ANTONIO, TX 78295 | 246 | 1,602,611
TX: HA OF ORANGE | PO BOX 3107, ORANGE, TX 77630 | 27 | 159,285
VA: BRISTOL REDEV & HA | 809 EDMOND ST, BRISTOL, VA 24201 | 10 | 38,281
VA: NORFOLK REDEV & HA | 201 GRANBY ST, NORFOLK, VA 23501 | 8 | 68,094
VA: HAMPTON REDEV & HA | PO BOX 280, HAMPTON, VA 23669 | 271 | 2,291,282
WA: HA OF CITY OF RENTON | 970 HARRINGTON AVE, NE., RENTON, WA 98056 | 84 | 764,235
WA: SEATTLE HA | 120 SIXTH AVE NORTH, SEATTLE, WA 98109 | 172 | 1,824,908
WA: HA OF CITY OF VANCOUVER | 2500 MAIN ST, STE #200, VANCOUVER, WA 98660 | 90 | 99,672
Total for Public Housing Relocation |  | 1,865 | 14,898,472
Witness Relocation
CA: COUNTY OF ORANGE HA | 1770 NORTH BROADWAY, SANTA ANA, CA 92706 | 1 | 26,580
CT: CONNECTICUT DEPT OF HOUSING | 505 HUDSON ST, HARTFORD, CT 06106 | 1 | 18,912
FL: HA WEST PALM BEACH GENERAL | 1715 DIVISION AVE, WEST PALM BEACH, FL 33407 | 1 | 21,096
FL: BROWARD COUNTY HA | 4780 NORTH STATE RD 7, LAUDERDALE LAKES, FL 33319 | 1 | 12,816
MA: BOSTON HA | 52 CHAUNCY ST, BOSTON, MA 02111 | 5 | 77,644
MA: ATTLEBORO HA | 37 CARLON ST, ATTLEBORO, MA 02703 | 1 | 22,812
MA: MALDEN HA | 630 SALEM ST, MALDEN, MA 02148 | 1 | 19,077
MD: MONTGOMERY COUNTY HOC | 10400 DETRICK AVE, KENSINGTON, MD 20895 | 2 | 40,992
MO: HA OF KANSAS | 920 MAIN ST, STE 701, KANSAS CITY, MO 64106 | 1 | 13,512
NJ: TOWNSHIP OF PENNSAUKEN | 5605 N CRESCENT BLVD, PENNSAUKEN, NJ 08110 | 1 | 15,060
Total for Witness Relocation |  | 15 | 268,501
Total for Public Housing Tenant Protection |  | 2,299 | 19,527,644
Housing Tenant Protection
Certain At-Risk Households in Low Vacancy Areas
CA: CITY OF BERKELEY HA | 1901 FAIRVIEW ST, BERKELEY, CA 94703 | 34 | 385,199
CA: COUNTY OF SANTA CLARA HA | 505 WEST JULIAN ST, SAN JOSE, CA 95110 | 7 | 67,888
CA: SAN DIEGO HSG COMM | 1122 BROADWAY, STE 300, SAN DIEGO, CA 92101 | 2 | 14,142
CA: HA OF CITY OF LIVERMORE | 3203 LEAHY WAY, LIVERMORE, CA 94550 | 4 | 39,490
CA: CITY OF BALDWIN PARK HA | 14403 PACIFIC AVE, BALDWIN PARK, CA 91706 | 15 | 126,587
CT: CONNECTICUT DEPT OF HOUSING | 505 HUDSON ST, HARTFORD, CT 06106 | 126 | 1,041,957
FL: MIAMI DADE HA | 701 NW 1ST COURT, 16TH FL, MIAMI, FL 33136 | 171 | 1,423,062
IL: CHICAGO HA | 60 EAST VAN BUREN ST, 11TH FL, CHICAGO, IL 60605 | 55 | 384,420
NH: NASHUA HA | 40 EAST PEARL ST, 1ST FL, NASHUA, NH 03060 | 3 | 26,747
NH: CONCORD HA | 10 FERRY ST, STE 302, CONCORD, NH 03301 | 21 | 135,860
NY: NYS HSG TRUST FUND CORP | 38-40 STATE ST, ALBANY, NY 12207 | 184 | 915,056
Total for Certain At-Risk Households in Low Vacancy Areas |  | 622 | 4,560,408
Rent Supplement
GA: HA OF MACON | 2015 FELTON AVE, MACON, GA 31208 | 167 | 995,107
MA: FITCHBURG HA | 50 DAY ST, FITCHBURG, MA 01420 | 20 | 151,216
MI: MICHIGAN STATE HSG DEV AUTH | PO BOX 30044, LANSING, MI 48909 | 65 | 387,577
ND: RICHLAND COUNTY HA | 230 8TH AVE WEST, WEST FARGO, ND 58078 | 16 | 56,148
Total for Rent Supplement |  | 268 | 1,590,048
Property Disposition
IA: CITY OF DES MOINES MUNICIPAL | 100 EAST EUCLID, STE 101, DES MOINES, IA 50313 | 5 | 25,852
Total for Property Disposition Relocation |  | 5 | 25,852
Prepayment—RAD
MA: BOSTON HA | 52 CHAUNCY ST, BOSTON, MA 02111 | 17 | 169,784
MA: HOLYOKE HA | 475 MAPLE ST, HOLYOKE, MA 01040 | 51 | 306,403
MA: TAUNTON HA | 30 OLNEY ST, STE B, TAUNTON, MA 02780 | 72 | 682,110
MA: SPRINGFIELD HA | 25 SAAB COURT, SPRINGFIELD, MA 01101 | 151 | 1,062,394
MA: HAVERHILL HA | 25-C WASHINGTON ST, HAVERHILL, MA 01831 | 113 | 874,177
MA: MASSACHUSETTS DHCD | 100 CAMBRIDGE ST, BOSTON, MA 02114 | 176 | 1,942,449
MI: MICHIGAN STATE HSG DEV AUTH | PO BOX 30044, LANSING, MI 48909 | 630 | 3,922,841
NJ: JERSEY CITY HA | 400 US HWY #1, JERSEY CITY, NJ 07306 | 308 | 2,971,177
NJ: EAST ORANGE HA | 160 HALSTED ST, EAST ORANGE, NJ 07018 | 166 | 1,674,934
NY: ALBANY HA | 200 SOUTH PEARL, ALBANY, NY 12202 | 143 | 877,717
NY: VILLAGE OF MANLIUS | 990 JAMES ST, SYRACUSE, NY 13203 | 595 | 2,949,628
Total for Prepayment—RAD |  | 2,422 | 17,433,614
Prepayments
AL: HA OF SELMA | PO BOX 950, SELMA, AL 36702 | 18 | 75,752
CA: CITY OF FRESNO HA | 1331 FULTON MALL, FRESNO, CA 93776 | 6 | 38,286
CA: COUNTY OF SACRAMENTO HA | 801 12TH ST, SACRAMENTO, CA 95814 | 69 | 609,350
CA: COUNTY OF FRESNO HA | 1331 FULTON MALL, FRESNO, CA 93776 | 48 | 295,932
CA: COUNTY OF MONTEREY HA | 123 RICO ST, SALINAS, CA 93907 | 96 | 813,415
CA: CITY OF FAIRFIELD | 823-B JEFFERSON ST, FAIRFIELD, CA 94533 | 31 | 290,148
CO: HA OF CITY & COUNTY OF DENVER | 777 GRANT ST, DENVER, CO 80203 | 28 | 256,537
DC: DISTRICT OF COLUMBIA HA | 1133 NORTH CAPITOL ST NE., WASHINGTON, DC 20002 | 10 | 62,924
HI: CITY AND COUNTY OF HONOLULU | 715 SOUTH KING ST, STE 311, HONOLULU, HI 96813 | 0 | 118,714
ID: HA OF THE CITY OF POCATELLO | PO BOX 4161, POCATELLO, ID 83205 | 43 | 225,136
ID: IDAHO HSG FIN AGENCY | 565 W MYRTLE ST, BOISE, ID 83707 | 23 | 110,160
IL: CHICAGO HA | 60 EAST VAN BUREN ST, 11TH FL, CHICAGO, IL 60605 | 400 | 4,109,844
IL: MCLEAN COUNTY HA | 104 EAST WOOD ST, BLOOMINGTON, IL 61701 | 96 | 511,857
KY: SOMERSET HA | PO BOX 449, SOMERSET, KY 42501 | 61 | 212,126
KY: HOPKINSVILLE HA | 400 NORTH ELM ST, HOPKINSVILLE, KY 42240 | 80 | 273,163
KY: CUMBERLAND VALLEY HA | PO BOX 806, BARBOURVILLE, KY 40906 | 6 | 25,517
MA: CAMBRIDGE HA | 675 MASSACHUSETTS AVE, CAMBRIDGE, MA 02139 | 469 | 7,475,054
MA: HOLYOKE HA | 475 MAPLE ST, HOLYOKE, MA 01040 | 121 | 726,958
MA: WORCESTER HA | 40 BELMONT ST, WORCESTER, MA 01605 | 102 | 189,307
MA: NORTH ADAMS HA | 150 ASHLAND ST, NORTH ADAMS, MA 01247 | 58 | 360,924
MA: GREENFIELD HA | ONE ELM TERRACE, GREENFIELD TOWN, MA 01301 | 76 | 463,731
MA: MASSACHUSETTS DHCD | 100 CAMBRIDGE ST, BOSTON, MA 02114 | 118 | 1,302,361
MD: HA OF BALTIMORE | 417 EAST FAYETTE ST, BALTIMORE, MD 21201 | 170 | 2,914,268
MD: MONTGOMERY COUNTY HOC | 10400 DETRICK AVE, KENSINGTON, MD 20895 | 144 | 1,947,681
MI: MICHIGAN STATE HSG DEV AUTH | PO BOX 30044, LANSING, MI 48909 | 413 | 2,570,107
MN: MINNEAPOLIS PHA | 1001 WASHINGTON AVE, NORTH, MINNEAPOLIS, MN 55401 | 19 | 167,475
MN: CROOKSTON HSG & ECON DEV | 110 SARGENT ST, CROOKSTON, MN 56716 | 27 | 112,165
MN: METROPOLITAN COUNCIL HRA | 390 ROBERT ST, NORTH, ST. PAUL, MN 55101 | 85 | 113,577
MO: HA OF KANSAS | 920 MAIN ST, STE 701, KANSAS CITY, MO 64106 | 87 | 482,440
NJ: ATLANTIC CITY HA | 227 VERMONT AVE, ATLANTIC CITY, NJ 08401 | 104 | 1,001,283
NY: HA OF UTICA CITY | 509 SECOND ST, UTICA, NY 13501 | 141 | 724,261
NY: ALBANY HA | 200 SOUTH PEARL, ALBANY, NY 12202 | 105 | 649,891
NY: HA OF ROCHESTER | 675 WEST MAIN ST, ROCHESTER, NY 14611 | 188 | 1,031,692
NY: WHITE PLAINS HA | 223 DR MARTIN L KING JR BLVD, WHITE PLAINS, NY 10601 | 58 | 708,932
NY: HA OF ITHACA | 800 S PLAIN ST, ITHACA, NY 14850 | 69 | 459,482
NY: HA OF AUBURN | 20 THORNTON AVE, AUBURN, NY 13021 | 137 | 547,781
NY: NEW YORK DHPD | 100 GOLD ST, RM 501, NEW YORK, NY 10038 | 990 | 12,043,468
NY: CITY OF NIAGARA FALLS HA | 1022 MAIN ST, NIAGARA FALLS, NY 14301 | 101 | 422,673
NY: NYS HSG TRUST FUND CORPORATION | 38-40 STATE ST, ALBANY, NY 12207 | 59 | 556,580
OH: CUYAHOGA MHA | 8120 KINSMAN RD, CLEVELAND, OH 44104 | 135 | 863,630
OH: WAYNE MHA | 345 NORTH MARKET ST, WOOSTER, OH 44691 | 31 | 139,452
OR: HA OF HILLSBORO | 111 NE LINCOLN ST, STE 200-L, HILLSBORO, OR 97124 | 72 | 506,105
PA: HA OF CITY OF PITTSBURGH | 200 ROSS ST, PITTSBURGH, PA 15219 | 41 | 275,737
PA: ALLEGHENY COUNTY HA | 625 STANWIX ST, 12TH FL, PITTSBURGH, PA 15222 | 67 | 58,328
PA: HARRISBURG HA | 351 CHESTNUT ST, 12TH FL, HARRISBURG, PA 17101 | 195 | 1,409,897
PA: JOHNSTOWN HA | 501 CHESTNUT ST, JOHNSTOWN, PA 15907 | 160 | 641,280
VA: ROANOKE REDEV & HA | 2624 SALEM TRNPK, NW., ROANOKE, VA 24017 | 60 | 199,622
WA: SPOKANE HA | WEST 55 MISSION ST, STE 104, SPOKANE, WA 99201 | 66 | 333,021
WV: WHEELING HA | 11 COMMUNITY ST, WHEELING, WV 26003 | 22 | 105,972
WV: PARKERSBURG HA | 1901 CAMERON AVE, PARKERSBURG, WV 26101 | 86 | 370,581
WV: HA OF THE CITY OF BECKLEY | 100 BECKWOODS DR, BECKLEY, WV 25802 | 139 | 544,686
Total for Prepayment |  | 5,930 | 50,449,263
RAD—Conversion Assistance
Rent Supplement—RAD
IL: ELGIN HA | 120 SOUTH STATE ST, ELGIN, IL 60123 | 149 | 1,480,268
IL: DUPAGE COUNTY HA | 711 EAST ROOSEVELT RD, WHEATON, IL 60187 | 66 | 625,380
MI: MICHIGAN STATE HSG. DEV. AUTH | PO BOX 30044, LANSING, MI 48909 | 95 | 588,957
NJ: ENGLEWOOD HA | 111 WEST ST, ENGLEWOOD, NJ 07631 | 108 | 1,282,232
NJ: VINELAND HA | 191 CHESTNUT AVE, VINELAND, NJ 08360 | 0 | 104,147
NY: NYS HSG TRUST FUND CORP | 38-40 STATE ST, ALBANY, NY 12207 | 236 | 1,399,135
Total for Rent Supplement—RAD |  | 654 | 5,480,119
Termination/Opt-out Vouchers
AK: AK HSG FINANCE CORP | PO BOX 101020, ANCHORAGE, AK 99510 | 74 | 576,028
AR: SPRINGDALE HA | PO BOX 2085, SPRINGDALE, AR 72765 | 12 | 48,174
AR: HA OF THE CITY OF SILOAM | 2802 HWY 412 EAST, SILOAM SPRINGS, AR 72761 | 10 | 39,650
CA: CITY OF LOS ANGELES HA | 2600 WILSHIRE BLVD, 3RD FL, LOS ANGELES, CA 90057 | 1 | 10,377
CA: SAN DIEGO HSG COMM | 1122 BROADWAY, STE, 300, SAN DIEGO, CA 92101 | 32 | 339,417
CA: COUNTY OF SAN DIEGO | 3989 RUFFIN RD, SAN DIEGO, CA 92123 | 24 | 38,461
CA: CITY OF POMONA | 505 S GAREY AVE, POMONA, CA 91769 | 3 | 34,483
CA: CITY OF OCEANSIDE COMM DEV | 300 N COAST HWY NEVADA ST ANNEX, OCEANSIDE, CA 92054 | 12 | 123,900
CO: HA OF CITY & COUNTY OF DENVER | 777 GRANT ST, DENVER, CO 80203 | 118 | 624,126
CO: LOVELAND HA | 375 W 37TH ST, STE #200, LOVELAND, CO 80538 | 12 | 83,640
CO: FORT COLLINS HA | 1715 W MOUNTAIN AVE, FORT COLLINS, CO 80521 | 50 | 394,512
CT: BRIDGEPORT HA | 150 HIGHLAND AVE, BRIDGEPORT, CT 06604 | 9 | 92,471
CT: CONNECTICUT DEPT OF HOUSING | 505 HUDSON ST, HARTFORD, CT 06106 | 19 | 187,905
GA: HA CITY OF JONESBORO | 203 HIGHTOWER ST, JONESBORO, GA 30237 | 37 | 255,804
IA: FORT DODGE HOUSING AGENCY | 700 SOUTH 17TH ST, FORT DODGE, IA 50501 | 38 | 107,538
IA: CITY OF MASON CITY | 22 N GEORGIA, STE 214, MASON CITY, IA 50401 | 11 | 62,756
IA: SOUTHERN IOWA REG HA | 219 N PINE, CRESTON, IA 50801 | 16 | 63,735
IA: MARSHALLTOWN LRHA | 24 NORTH CENTER ST, MARSHALLTOWN, IA 50158 | 15 | 46,111
ID: IDAHO HSG FIN AGENCY | 565 W MYRTLE ST, BOISE, ID 83707 | 7 | 19,623
IL: HA OF HENRY | 125 N CHESTNUT ST, KEWANEE, IL 61443 | 9 | 38,887
IN: INDIANAPOLIS HOUSING AGENCY | 1919 N MERIDIAN ST, INDIANAPOLIS, IN 46202 | 43 | 266,400
KS: FORD COUNTY HA | PO BOX 1636, DODGE CITY, KS 67801 | 4 | 15,023
MA: WORCESTER HA | 40 BELMONT ST, WORCESTER, MA 01605 | 26 | 184,579
MA: PLYMOUTH HA | POB 3537, PLYMOUTH, MA 02361 | 11 | 111,586
MA: MASSACHUSETTS DHCD | 100 CAMBRIDGE ST, BOSTON, MA 02114 | 56 | 618,164
MD: COUNTY COMMISSIONERS CHARLES | 8190 PORT TOBACCO RD, PORT TOBACCO, MD 20677 | 18 | 18,032
MD: BALTIMORE CO HOUSING OFFICE | 6401 YORK ROAD, 1 ST FL, BALTIMORE, MD 21212 | 36 | 341,310
ME: MAINE STATE HA | 353 WATER ST, AUGUSTA, ME 04330 | 6 | 38,512
MI: MICHIGAN STATE HSG DEV AUTH | PO BOX 30044, LANSING, MI 48909 | 380 | 2,274,461
MN: ST. CLOUD HRA | 1225 WEST ST. GERMAIN, ST. CLOUD, MN 56301 | 7 | 35,919
MN: NW MN MULTI-COUNTY HRA | PO BOX 128, MENTOR, MN 56736 | 9 | 30,311
MO: ST. LOUIS HA | 3520 PAGE BLVD, ST. LOUIS, MO 63106 | 46 | 315,242
MS: HA OF TENNESSEE VALLEY | PO BOX 1329, CORINTH, MS 38834 | 23 | 95,839
MT: BUTTE HA | 220 CURTIS ST, BUTTE, MT 59701 | 33 | 122,444
MT: MT DEPT OF COMMERCE | 301 S. PARK, HELENA, MT 59620 | 18 | 88,595
NC: GREENSBORO HA | PO BOX 21287, GREENSBORO, NC 27420 | 20 | 17,352
ND: STUTSMAN COUNTY HOUSING | 217 1ST AVE N, JAMESTOWN, ND 58401 | 25 | 75,954
ND: BARNES COUNTY HA | 120 12TH ST NW., VALLEY CITY, ND 58072 | 49 | 184,479
NE: FREMONT HA | 2510 NORTH CLARKSON, #100, FREMONT, NE 68025 | 7 | 22,101
NY: TOWN OF ISLIP HA | 963 MONTAUK HWY, OAKDALE, NY 11769 | 8 | 27,126
NY: TOWN OF BROOKHAVEN DOH | ONE INDEPENDENCE HILL, FARMINGVILLE, NY 11738 | 86 | 1,253,044
NY: NYS HSG TRUST FUND CORP | 38-40 STATE ST, ALBANY, NY 12207 | 8 | 75,468
OH: COLUMBUS METRO HA | 880 EAST 11TH AVE, COLUMBUS, OH 43211 | 23 | 145,574
OH: CINCINNATI METRO HA | 16 WEST CENTRAL PKWY, CINCINNATI, OH 45210 | 10 | 63,673
OR: HA & COMM SERV AGENCY OF LAKE | 177 DAY ISLAND RD, EUGENE, OR 97401 | 27 | 145,269
RQ: MUNICIPALITY OF SAN JUAN | PO BOX 36-2138, SAN JUAN, PR 00936 | 8 | 52,137
RQ: MUNICIPALITY OF BAYAMON | PO 1588, BAYAMON, PR 00960. | 46 | 299,929
SC: HA OF GREENWOOD | PO BOX 973, GREENWOOD, SC 29648 | 8 | 37,412
SD: PIERRE HSG & REDEV | 301 W. PLEASANT AVE, PIERRE, SD 57501 | 12 | 41,931
SD: YANKTON HSG & REDEV COMM | PO BOX 176, YANKTON, SD 57078 | 4 | 12,631
TX: TARRANT COUNTY HA | 2100 CIRCLE DR, STE, 200, FORT WORTH, TX 76119 | 30 | 208,613
TX: HA OF ODESSA | 124 E. SECOND ST., ODESSA, TX 79761 | 51 | 339,636
TX: TYLER HA | 2039 213 N. BONNER, TYLER, TX 75710 | 39 | 271,487
VA: RICHMOND REDEV & HA | 901 CHAMBERLAYNE PKWY, RICHMOND, VA 23220 | 20 | 166,992
VA: DANVILLE REDEV & HA | 651 CARDINAL PLACE, DANVILLE, VA 24541 | 56 | 72,796
VA: LYNCHBURG REDEV & HA | 918 COMMERCE ST, LYNCHBURG, VA 24505 | 86 | 377,217
VA: VIRGINIA HSG & REDEV AUTH | 601 SOUTH BELVIDERE ST, RICHMOND, VA 23220 | 100 | 63,727
WA: SEATTLE HA | 120 SIXTH AVE NORTH, SEATTLE, WA 98109 | 19 | 192,747
WA: KING COUNTY HA | 600 ANDOVER PARK WEST, SEATTLE, WA 98188 | 105 | 1,286,850
WA: HA OF SNOHOMISH | 12625 4TH AVE W, STE, 200, EVERETT, WA 98204 | 36 | 317,758
WA: SPOKANE HA | WEST 55 MISSION ST, STE, 104, SPOKANE, WA 99201 | 85 | 428,096
WI: MILWAUKEE CO HA | 2711 W WELLS ST, RM 102, MILWAUKEE, WI | 28 | 186,437
WI: WISCONSIN HSG & ECON DEV | PO BOX 1728, MADISON, WI 53701 | 63 | 302,514
WV: PARKERSBURG HA | 1901 CAMERON AVE, PARKERSBURG, WV 26101 | 5 | 21,546
Total for Termination/Opt-out Vouchers |  | 2,289 | 14,434,511
Total for Housing Tenant Protection |  | 12,190 | 93,973,815
CPD Tenant Protection
SRO Replacement
CO: COLORADO DIV OF HOUSING | 1313 SHERMAN ST, RM 518, DENVER, CO 80203 | 14 | 44,212
Total for CPD Tenant Protection |  | 14 | 44,212
Grand Total Including Special Fees |  | 14,503 | 115,915,271

[FR Doc. 2015-11579 Filed 5-12-15; 8:45 am]

BILLING CODE 4210-67-P